DEPARTMENT OF COMMERCE

Economic Development Administration

Notice of Petitions by Producing Firms for Determination of Eligibility To Apply for Trade Adjustment Assistance

AGENCY: Economic Development Administration, Department of Commerce.

ACTION: Notice and opportunity for public comment.

Pursuant to section 251 of the Trade Act of 1974 (19 U.S.C. 2341 et seq.), the Economic Development Administration (EDA) has received petitions for certification of eligibility to apply for Trade Adjustment Assistance from the firms listed below. EDA has initiated separate investigations to determine whether increased imports into the United States of articles like or directly competitive with those produced by each firm contributed importantly to the total or partial separation of the firm's workers, or threat thereof, and to a decrease in sales or production of each petitioning firm.

List of Petitions Received by EDA for Certification of Eligibility To Apply for Trade Adjustment Assistance for the Period December 21, 2005 Through January 13, 2006
Firm | Address | Date petition accepted | Product
M.M.D. Mountain Mold & Die, Inc. | 127 River Bend Drive, Sevierville, TN 37876 | 12/21/05 | Injection molded and plastic parts, and steel machine parts.
Perfekt Punch Manufacturing Co. | 1885 Holste Road, Northbrook, IL 60062 | 1/5/06 | Die components for the tool and die industry.
M and H Machine Corporation | 611 West Country Road E., Shoreview, MN 55126 | 1/5/06 | Precision-machined metal parts.
Fitzpatrick & Weller, Inc. | 12 Mill Street, P.O. Box 490, Ellicottville, NY 14731 | 1/5/06 | Wood dimension products.
Naegle's Industrial Leather Machinery Co | 401 Irvine Street, Yoakum, TX 77995 | 1/5/06 | Machinery for making leather products.
Lukas Confections, Inc. | 231 W. College Avenue, York, PA 17405 | 1/10/06 | Milk caramel, toffee and taffy products.
Home, Inc. | 500 W. 9th Street, Hermann, MO 65041 | 1/11/06 | Standard and custom metal cabinets.
Columbia Sewing Company, Inc. | 201 W. University Street Magnolia, AR 71753 | 1/13/06 | Outdoor camouflaged coats and trousers.
Excellon Acquisitions, LLC | 2451 Crenshaw Boulevard, Torrance, CA 90505 | 1/13/06 | Drilling equipment for printed circuit board industry.

Any party having a substantial interest in the proceedings may request a public hearing on the matter. A written request for a hearing must be submitted to the Office of Chief Counsel, Room 7005, Economic Development Administration, U.S. Department of Commerce, Washington, DC 20230, no later than ten (10) calendar days following publication of this notice. Please follow the procedures set forth in Section 315.9 of EDA's interim final rule (70 FR 47002) for procedures for requesting a public hearing. The Catalog of Federal Domestic Assistance official program number and title of the program under which these petitions are submitted is 11.313, Trade Adjustment Assistance.

Barry Bird,
Chief Counsel.

[FR Doc. E6-618 Filed 1-19-06; 8:45 am]

BILLING CODE 3510-24-P